DEPARTMENT OF ENERGY

Federal Energy Regulatory Commission

Sunshine Act Meeting; Notice

March 8, 2007.

The following notice of meeting is published pursuant to section 3(a) of the government in the Sunshine Act (Pub. L. 94-409), 5 U.S.C 552b:

Agency Holding Meeting: Federal Energy Regulatory Commission.

Date And Time: March 15, 2007, 10 a.m.

Place: Room 2C, 888 First Street, NE., Washington, DC 20426.

Status: Open.

Matters To Be Considered: Agenda.

Note: Items listed on the agenda may be deleted without further notice.

Contact Person For More Information: Philis J. Posey, Acting Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

916th—Meeting, Regular Meeting
[March 15, 2007, 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | ER04-691-079 ER04-691-081 | Midwest Independent Transmission System Operator, Inc.
E-2 | ER06-18-004 ER06-18-005 | Midwest Independent Transmission System Operator, Inc.
E-3 | ER06-18-006 | Midwest Independent Transmission System Operator, Inc.
E-4 | ER04-691-078 | Midwest Independent Transmission System Operator, Inc.
E-5 | EL06-87-000 | Cottonwood Energy Company, LP.
E-6 | TX07-1-000 | Brazos Electric Power Cooperative, Inc.
E-7 | ER05-115-001 | Duke Energy Oakland, LLC.
E-8 | ER06-185-003 ER06-185-004 ER06-185-006 | New York Independent System Operator, Inc.
E-9 | OMITTED
E-10 | TX06-3-000 | City of Tacoma, Washington and City of Seattle, Washington v. South Columbia Basin Irrigation District East Columbia Basin Irrigation District Quincy Columbia Basin Irrigation District Grand Coulee Project Hydroelectric Authority.
| P-2849-015 | South Columbia Basin Irrigation District, East.
| P-3295-012 | Columbia Basin Irrigation District, Quincy Columbia Basin Irrigation District and Grand Coulee Project Hydroelectric Authority.
| DI07-3-000 DI07-4-000 | City of Tacoma, Washington and City of Seattle, Washington.
E-11 | OMITTED
E-12 | RM07-11-000 | Applicability of Federal Power Act Section 215 to Qualifying Small Power Production and Cogeneration Facilities.
E-13 | RM06-16-000 | Mandatory Reliability Standards for the Bulk-Power System.
E-14 | EL07-18-000 | New York Independent System Operator, Inc. v. Astoria Energy LLC.
E-15 | RM00-7-012 | Revision to Annual Charges to Public Utilities (Westar Energy, Inc. and Kansas Gas & Electric Company).
E-16 | TX06-2-000 TX06-2-002 TX06-2-003 TX06-2-004 | Aero Energy, LLC.
E-17 | ER05-522-001 | Bluegrass Generation Company, L.L.C.
E-18 | EL05-150-001 | Richard Blumenthal, Attorney General for the State of Connecticut, the Connecticut Office of Consumer Counsel, the Connecticut Municipal Electric Energy Cooperative and the Connecticut Industrial Energy Consumers v. ISO New England, Inc.
E-19 | ER06-1382-001 | Bluegrass Generation Company, L.L.C.
GAS
G-1 | RP06-231-002 | Norstar Operating, LLC v. Columbia Gas Transmission Corporation.
| RP06-365-000 | Columbia Gas Transmission Corporation.
G-2 | PR07-1-000 | Peoples Gas Light and Coke Company.
G-3 | RP01-503-006 | Natural Gas Pipeline Company of America.
G-4 | OMITTED
G-5 | RP07-172-000 | Columbia Gulf Transmission Company.
HYDRO
H-1 | P-2216-066 | New York Power Authority.
H-2 | P-2438-062 | Seneca Falls Power Corporation.
| P-11120-035 P-11300-029 P-11516-031 | Commonwealth Power Company.
| P-11150-023 | Cameron Gas and Electric Company.
| P-2239-039 | Tomahawk Power and Pulp Company.
H-3 | P-2539-031 | Erie Boulevard Hydropower, L.P.
CERTIFICATES
C-1 | OMITTED
C-2 | CP05-383-000 | Algonquin Gas Transmission, LLC.
C-3 | CP07-75-000 | Sonora Pipeline, LLC.
C-4 | CP06-488-000 | Natural Gas Pipeline Company of America.
| CP06-499-000 CP06-450-000 CP06-451-000 | Kinder Morgan Louisiana Pipeline LLC.
C-5 | OMITTED
C-6 | CP05-150-002 | Hardy Storage Company, LLC.

Philis J. Posey,
Acting Secretary.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E7-4595 Filed 3-13-07; 8:45 am]

BILLING CODE 6717-01-P